DEPARTMENT OF ENERGY

Federal Energy Regulatory Commission

[Docket No. IC19-19-000]

Commission Information Collection Activities (FERC-542); Comment Request

AGENCY: Federal Energy Regulatory Commission, DOE.

ACTION: Notice of information collection and request for comments.

SUMMARY: In compliance with the requirements of the Paperwork Reduction Act of 1995, the Federal Energy Regulatory Commission (Commission or FERC) is submitting its information collection FERC-542 (Pipeline Rates: Rate Tracking) to the Office of Management and Budget (OMB) for review of the information collection requirements. Any interested person may file comments directly with OMB and should address a copy of those comments to the Commission as explained below. The Commission previously published a Notice in the Federal Register (4/10/2019) requesting public comments. The Commission received no public comments and is making this notation in its submittal to OMB.

DATES: Comments on the collection of information are due July 22, 2019.

ADDRESSES: Comments filed with OMB, identified by the OMB Control No. 1902-0070 (FERC-542), should be sent via email to the Office of Information and Regulatory Affairs: oira_submission@omb.gov, Attention: Federal Energy Regulatory Commission Desk Officer.

A copy of the comments should also be sent to the Commission, in Docket No. IC19-19-000, by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-542, Gas Pipelines Rates: Rate Tracking.

OMB Control No.: 1902-0070.

Type of Request: Three-year extension of the FERC-542 information collection requirements with no changes to the current reporting requirements.

Abstract: The information collected by FERC-542 is used by the Commission to implement the statutory provisions of Title IV of the Natural Gas Policy Act (NGPA), 15 U.S.C. 3301-3432, and sections 4, 5, and 16 of the Natural Gas Act (NGA) (Pub. L.75-688) (15 U.S.C. 717-717w). These statutes allow the Commission to collect natural gas transmission cost information from interstate natural gas pipelines for the purpose of verifying that these costs, which are passed on to customers, are just and reasonable.

Natural gas pipelines are required by the Commission to track their transportation costs to allow for the Commission's review and, where appropriate, approve the pass-through of these costs to pipeline customers. FERC-542 accounts for costs involving: (1) Research, development, and deployment expenditures; (2) annual charge adjustments; and (3) periodic rate adjustments.

FERC-542 filings may be submitted at any time or on a regularly scheduled basis in accordance with the pipeline company's tariff. Filings may be either: (1) Accepted; (2) suspended and set for hearing; (3) minimal suspension; or (4) suspended for further review, such as technical conference or some other type of Commission action.

The Commission implements these filing requirements in the Code of Federal Regulations (CFR) under 18 CFR part 154, 154.107, 154.4, 154.7, 154.201, and 154.401-154.403.

Type of Respondents: Jurisdictional Natural Gas Pipelines.

Estimate of Annual Burden: ¹ The Commission estimates the total burden and cost ² for this information collection as follows:

¹ “Burden” is the total time, effort, or financial resources expended by persons to generate, maintain, retain, or disclose or provide information to or for a Federal agency. For further explanation of what is included in the information collection burden, refer to Title 5 Code of Federal Regulations 1320.3.

² FERC staff estimates that industry costs for salary plus benefits are similar to Commission costs. The cost figure is the FY2018 FERC average annual salary plus benefits ($164,820/year or $79/hour).

FERC-542 (Gas Pipeline Rates: Rate Tracking)
FERC data collection | Number of respondents | Annual number of responses per respondent | Total number of responses | Average burden hours & cost per response | Total annual burden hours & total annual cost ($) (rounded) | Cost ($) per respondent (rounded)
| (1) | (2) | (1) * (2) = (3) | (4) | (3) * (4) = (5) | (5) ÷ (1)
FERC-542 | 90 | 2 | 180 | 2 hrs; $158 | 360 hrs; $28,440 | $316
Total |  |  |  |  | 360 hrs; $28,440 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 13, 2019.
Nathaniel J. Davis, Sr.,
Deputy Secretary.

[FR Doc. 2019-13238 Filed 6-20-19; 8:45 am]

BILLING CODE 6717-01-P